DEPARTMENT OF STATE

[Public Notice: 12705]

Bureau of Political-Military Affairs, Directorate of Defense Trade Controls: Notifications to the Congress of Proposed Commercial Export Licenses

SUMMARY: The Directorate of Defense Trade Controls and the Department of State give notice that the attached Notifications of Proposed Commercial Export Licenses were submitted to Congress on the dates indicated.

DATES: The dates of notification to Congress are shown on each of the 33 Letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner.

The following comprise recent such notifications and are published to give notice to the public.

April 1, 2024

Congressional Notification Transmittal Letter

Please find enclosed the following notification from the Department of State.

Department Notification Number: DDTC 23-027.

Pursuant to Section 36(c) of the Arms Export Control Act, please find enclosed a certification of a proposed license for the export of firearms controlled under Category I of the U.S. Munitions List in the amount of $1,000,000 or more.

The transaction contained in the attached certification involves the export to Senegal of fully automatic rifles.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 1, 2024

Congressional Notification Transmittal Letter

Please find enclosed the following notification from the Department of State.

Department Notification Number: DDTC 23-063.

Pursuant to Section 36(c) of the Arms Export Control Act, please find enclosed a certification of a proposed license for the export of firearms, parts, and components controlled under Category I of the U.S. Munitions List in the amount of $1,000,000 or more.

The transaction contained in the attached certification involves the export of fully automatic rifles, suppressors, and related components to Sweden.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 1, 2024

Congressional Notification Transmittal Letter

Please find enclosed the following notification from the Department of State.

Department Notification Number: DDTC 23-070.

Pursuant to Sections 36(c) and 36(d) of the Arms Export Control Act, please find enclosed a certification of a proposed amendment for the export of defense articles, including technical data, and defense services in the amount of $50,000,000 or more and the manufacture of significant military equipment abroad.

The transaction contained in the attached certification involves the export of defense articles, including technical data, and defense services to the UK to support the manufacture of sonar towed body systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 1, 2024

Congressional Notification Transmittal Letter

Please find enclosed the following notification from the Department of State.

Department Notification Number: DDTC 23-073.

Pursuant to Section 36(c) of the Arms Export Control Act, please find enclosed a certification of a proposed license amendment for the export of defense articles, including technical data, and defense services in the amount of $100,000,000 or more.

The transaction contained in the attached certification involves the export of defense articles, including technical data, and defense services to Israel to support the manufacture, design, development, fabrication, assembly, testing and repair of helicopter tail booms, tail cones, tail rotor pylons stabilators and folding rotor blade systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 1, 2024

Congressional Notification Transmittal Letter

Please find enclosed the following notification from the Department of State.

Department Notification Number: DDTC 23-079.

Pursuant to Section 36(c) of the Arms Export Control Act, please find enclosed a certification of a proposed license for the export of defense articles, including technical data, and defense services in the amount of $50,000,000 or more.

The transaction contained in the attached certification involves the export of defense articles, including technical data, and defense services to Switzerland to support the transfer of manufacturing know-how to produce hardware for aircraft engines.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 17, 2024

Congressional Notification Transmittal Letter

Please find enclosed the following notification from the Department of State.

Department Notification Number: DDTC 23-087.

Pursuant to Section 36(c) of the Arms Export Control Act, please find enclosed a certification of a proposed license amendment for the export of defense articles, including technical data, and defense services in the amount of $100,000,000 or more.

The transaction contained in the attached certification involves the export of defense articles, including technical data, and defense services to France and Spain to support the design, development, modification, delivery, installation, maintenance, overhaul, and repair of submarines parts.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 17, 2024

Congressional Notification Transmittal Letter

Please find enclosed the following notification from the Department of State.

Department Notification Number: DDTC 23-092.

Pursuant to Section 36(c) of the Arms Export Control Act, please find enclosed a certification of a proposed license for the export of firearms, parts, and components controlled under Category I of the U.S. Munitions List in the amount of $1,000,000 or more.

The transaction contained in the attached certification involves the export to Brazil of 5.56mm fully automatic rifles.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary of State, Bureau of Legislative Affairs.

April 17, 2024

Congressional Notification Transmittal Letter

Please find enclosed the following notification from the Department of State.

Department Notification Number: DDTC 24-004.

Pursuant to Section 36(c) of the Arms Export Control Act, please find enclosed a certification of a proposed license for the export of firearms, parts, and components abroad controlled under Category I of the U.S. Munitions List in the amount of $1,000,000 or more.

The transaction contained in the attached certification involves the export of fully automatic .50 caliber machine guns to Ukraine.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary of State, Bureau of Legislative Affairs.

April 25, 2024

Congressional Notification Transmittal Letter

Please find enclosed the following notification from the Department of State.

Department Notification Number: DDTC 23-088.

Pursuant to Section 36(c) of the Arms Export Control Act, please find enclosed a certification of a proposed license amendment for the export of defense articles, including technical data, and defense services in the amount of $100,000,000 or more.

The transaction contained in the attached certification involves the export of defense articles, including technical data, and defense services to Italy to support the final assembly and check-out facility of fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

April 25, 2024

Congressional Notification Transmittal Letter

Please find enclosed the following notification from the Department of State.

Department Notification Number: DDTC 23-093.

Pursuant to Section 36(c) of the Arms Export Control Act, please find enclosed a certification of a proposed license for the export of firearms, parts, and components controlled under Category I of the U.S. Munitions List in the amount of $1,000,000 or more.

The transaction contained in the attached certification involves the export to Ukraine of .50 caliber fully automatic machine guns.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary of State, Bureau of Legislative Affairs.

May 1, 2024

Congressional Notification Transmittal Letter

Please find enclosed the following notification from the Department of State.

Department Notification Number: DDTC 24-003.

Pursuant to Section 36(c) of the Arms Export Control Act, please find enclosed a certification of a proposed license for the export of firearms, parts, and components controlled under Category I of the U.S. Munitions List in the amount of $1,000,000 or more.

The transaction contained in the attached certification involves the export of suppressors to Norway.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

May 8, 2024

Congressional Notification Transmittal Letter

Please find enclosed the following notification from the Department of State.

Department Notification Number: DDTC 23-075.

Pursuant to Section 36(c) of the Arms Export Control Act, please find enclosed a certification of a proposed license amendment for the export of defense articles, including technical data, and defense services in the amount of $100,000,000 or more.

The transaction contained in the attached certification involves the export of defense articles, including technical data, and defense services to Finland, the Netherlands, and the UK to support the manufacture of aircraft in-flight operating doors and drag chute assemblies, including subassemblies.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

May 8, 2024

Congressional Notification Transmittal Letter

Please find enclosed the following notification from the Department of State.

Department Notification Number: DDTC 23-081.

Pursuant to Section 36(c) of the Arms Export Control Act, please find enclosed a certification of a proposed license for the export of defense articles, including technical data, and defense services in the amount of $100,000,000 or more.

The transaction contained in the attached certification involves the export of defense articles, including technical data, and defense services to the UK to support the marketing, development, testing, delivery, modification, update, upgrade, enhancement, operation, and maintenance training of small, unmanned aerial systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary, Bureau of Legislative Affairs.

May 16, 2024

Congressional Notification Transmittal Letter

Please find enclosed the following notification from the Department of State.

Department Notification Number: DDTC 23-071.

Pursuant to Section 36(c) of the Arms Export Control Act, please find enclosed a certification of a proposed license for the export of firearms, parts, and components controlled under Category I of the U.S. Munitions List in the amount of $1,000,000 or more.

The transaction contained in the attached certification involves the export of fully automatic rifles to Ecuador.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary of State, Bureau of Legislative Affairs.

May 21, 2024

Congressional Notification Transmittal Letter

Please find enclosed the following notification from the Department of State.

Department Notification Number: DDTC 24-026.

Pursuant to Section 36(c) of the Arms Export Control Act, please find enclosed a certification of a proposed license for the export of firearms, parts, and components abroad controlled under Category I of the U.S. Munitions List in the amount of $1,000,000 or more.

The transaction contained in the attached certification involves the export of .50 cal fully automatic machine guns to Ukraine.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Naz Durakoğlu,

Assistant Secretary of State, Bureau of Legislative Affairs.

June 6, 2024

Congressional Notification Transmittal Letter

Please find enclosed the following notification from the Department of State.

Department Notification Number: DDTC 23-098.

Pursuant to Section 36(c) of the Arms Export Control Act, please find enclosed a certification of a proposed license for the export of defense articles, including technical data, and defense services in the amount of $50,000,000 or more.

The transaction contained in the attached certification involves the export of defense articles, including technical data, and defense services to Luxembourg and Mexico to support the manufacture of military aircraft engine components.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 23-099.

Pursuant to Section 36(c) of the Arms Export Control Act, please find enclosed a certification of a proposed license for the export of defense articles, including technical data, and defense services in the amount of $100,000,000 or more.

The transaction contained in the attached certification involves the export of defense articles, including technical data, and defense services to Japan to support the manufacture of missile launch canisters.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-001.

Pursuant to Sections 36(c) and 36(d) of the Arms Export Control Act, please find enclosed a certification of a proposed license for the export of defense articles, including technical data, and defense services in the amount of $50,000,000 or more and the manufacture of significant military equipment abroad.

The transaction contained in the attached certification involves the export of defense articles, including technical data, and defense services to the Republic of Korea and Singapore to support the manufacture, customer support, installation, integration, maintenance, operation, overhaul, repair, demonstration, testing and training of radio systems.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-002.

Pursuant to Section 36(c) of the Arms Export Control Act, please find enclosed a certification of a proposed license amendment for the export of defense articles, including technical data, and defense services in the amount of $50,000,000 or more.

The transaction contained in the attached certification involves the export of defense articles, including technical data, and defense services to India to support the maintenance and sustainment of maritime patrol aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-013.

Pursuant to Section 36(c) of the Arms Export Control Act, please find enclosed a certification of a proposed license for the export of defense articles, including technical data, and defense services in the amount of $100,000,000 or more.

The transaction contained in the attached certification involves the export of defense articles, including technical data, and defense services to Poland to support the manufacture, assembly, inspection, and delivery of aircraft engines.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-021.

Pursuant to Section 36(c) of the Arms Export Control Act, please find enclosed a certification of a proposed license for the export of firearms, parts, and components abroad controlled under Category I of the U.S. Munitions List in the amount of $1,000,000 or more.

The transaction contained in the attached certification involves the export of 5.56mm fully automatic machine guns and spare parts to Ukraine.

The U.S. government is prepared to license the export of these items having considered political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-037.

Pursuant to Section 36(c) of the Arms Export Control Act, please find enclosed a certification of a proposed license for the export of defense articles, including technical data, in the amount of $14,000,000 or more.

The transaction contained in the attached certification involves the export to Ukraine of armored personnel carriers.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 6, 2024

Congressional Notification Transmittal Letter

Please find enclosed the following notification from the Department of State.

Department Notification Number: DDTC 24-042.

Pursuant to Section 36(c) of the Arms Export Control Act, please find enclosed a certification of a proposed license for the export of defense articles in the amount of $14,000,000 or more.

The transaction contained in the attached certification involves the export to Ukraine of armored support vehicles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 11, 2024

Congressional Notification Transmittal Letter

Please find enclosed the following notification from the Department of State.

Department Notification Number: DDTC 24-033.

Pursuant to Section 36(c) of the Arms Export Control Act, please find enclosed a certification of a proposed license for the export of defense articles, including technical data, and defense services in the amount of $50,000,000 or more.

The transaction contained in the attached certification involves the export of vehicles, basic spare parts packages, and technical data to Ukraine and Germany to support training.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip Laidlaw,

Acting Assistant Secretary, Bureau of Legislative Affairs.

June 22, 2024

Congressional Notification Transmittal Letter

Please find enclosed the following notification from the Department of State.

Department Notification Number: DDTC 23-095.

Pursuant to Section 36(c) of the Arms Export Control Act, please find enclosed a certification of a proposed license amendment for the export of defense articles, including technical data, and defense services in the amount of $100,000,000 or more.

The transaction contained in the attached certification involves the export of defense articles, including technical data, and defense services to France, Italy, and Germany to support the integration, installation, operation, training, testing, maintenance, and repair of guided bombs.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 22, 2024

Congressional Notification Transmittal Letter

Please find enclosed the following notification from the Department of State.

Department Notification Number: DDTC 24-009.

Pursuant to Section 36(c) of the Arms Export Control Act, please find enclosed a certification of a proposed license for the export of defense articles, including technical data, and defense services in the amount of $50,000,000 or more.

The transaction contained in the attached certification involves the export of defense articles, including technical data, and defense services to the Philippines to support the delivery, spares, support, equipment, training, and support services of cargo aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

June 22, 2024

Congressional Notification Transmittal Letter

Please find enclosed the following notification from the Department of State.

Department Notification Number: DDTC 24-011.

Pursuant to Sections 36(c) and 36(d) of the Arms Export Control Act, please find enclosed a certification of a proposed license for the export of defense articles, including technical data, and defense services in the amount of $50,000,000 or more and the manufacture of significant military equipment abroad.

The transaction contained in the attached certification involves the export of defense articles, including technical data, and defense services to Mexico to support the manufacture, production, assembly, integration, maintenance, operation, overhaul, repair, demonstration, and testing of air and ground data terminals for unmanned aerial vehicles.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 22, 2024

Congressional Notification Transmittal Letter

Please find enclosed the following notification from the Department of State.

Department Notification Number: DDTC 24-012.

Pursuant to Section 36(c) of the Arms Export Control Act, please find enclosed a certification of a proposed license for the export of defense articles, including technical data, and defense services in the amount of $100,000,000 or more.

The transaction contained in the attached certification involves the export of defense articles, including technical data, and defense services to Japan to support the manufacture of aircraft engines.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 22, 2024

Congressional Notification Transmittal Letter

Please find enclosed the following notification from the Department of State.

Department Notification Number: DDTC 24-016.

Pursuant to Section 36(c) of the Arms Export Control Act, please find enclosed a certification of a proposed license for the export of defense articles, including technical data, and defense services in the amount of $50,000,000 or more.

The transaction contained in the attached certification involves the export of defense articles, including technical data, and defense services to Mexico to support the manufacture of lightweight titanium and aluminum alloy aircraft parts, engine parts and components for multiple military aircraft platforms.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Assistant Secretary, Bureau of Legislative Affairs.

June 22, 2024

Congressional Notification Transmittal Letter

Please find enclosed the following notification from the Department of State.

Department Notification Number: DDTC 24-019.

Pursuant to Section 36(c) of the Arms Export Control Act, please find enclosed a certification of a proposed license for the export of firearms, parts, and components controlled under Category I of the U.S. Munitions List in the amount of $1,000,000 or more.

The transaction contained in the attached certification involves the export of .50 cal heavy machine guns to Brazil.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 22, 2024

Congressional Notification Transmittal Letter

Please find enclosed the following notification from the Department of State.

Department Notification Number: DDTC 24-022.

Pursuant to Section 36(c) of the Arms Export Control Act, please find enclosed a certification of a proposed license amendment for the export of defense articles, including technical data, and defense services in the amount of $100,000,000 or more.

The transaction contained in the attached certification involves the export of defense articles, including technical data, and defense services to Australia, Finland, and Norway to support a surface-to-air missile system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 22, 2024

Congressional Notification Transmittal Letter

Please find enclosed the following notification from the Department of State.

Department Notification Number: DDTC 24-029.

Pursuant to Section 36(c) of the Arms Export Control Act, please find enclosed a certification of a proposed license for the export of defense articles, including technical data, and defense services in the amount of $1,000,000 or more.

The transaction contained in the attached certification involves the export of defense articles, including technical data, and defense services to Switzerland to support the procurement of 5.56mm automatic rifles, sound suppressors, parts and ammunition.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

June 28, 2024

Congressional Notification Transmittal Letter

Please find enclosed the following notification from the Department of State.

Department Notification Number: DDTC 23-097.

Pursuant to Section 36(c) of the Arms Export Control Act, please find enclosed a certification of a proposed license for the export of defense articles, including technical data, and defense services in the amount of $100,000,000 or more.

The transaction contained in the attached certification involves the export of defense articles, including technical data, and defense services to Israel and the UK to support the demonstration, training, integration, development, testing, installation, assembly, modification, troubleshooting, operation, and system integration of ground vehicles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

June 28, 2024

Congressional Notification Transmittal Letter

Please find enclosed the following notification from the Department of State.

Department Notification Number: DDTC 24-023.

Pursuant to Section 36(d) of the Arms Export Control Act, please find enclosed a certification of a proposed license for the export of defense articles, including technical data, and defense services for the manufacture of significant military equipment abroad.

The transaction contained in the attached certification involves the export of defense articles, including technical data, and defense services to Australia to support the production, manufacture, and assembly of warhead multi-piece kits and launch pod containers.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Principal Deputy Assistant Secretary, Bureau of Legislative Affairs.

Michael J. Vaccaro,
Deputy Assistant Secretary, Directorate of Defense Trade Controls, Department of State.

[FR Doc. 2025-07338 Filed 4-28-25; 8:45 am]

BILLING CODE 4710-25-P